DEPARTMENT OF AGRICULTURE

Submission for OMB Review; Comment Request

February 28, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by April 3, 2017 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Aquaculture Survey.

OMB Control Number: 0535-0150.

Summary of Collection: The primary function of the National Agricultural Statistics Service is to estimate production and stocks of agricultural food, fiber, and specialty commodities. Congress has mandated the collection of basic data for aquaculture and provides funding for these surveys. Public Law 96-362 was passed to increase the overall effectiveness and productivity of federal aquaculture programs by improving coordination and communication among Federal agencies involved in those programs. Aquaculture is an alternative method to produce a high protein, low fat product demanded by the consumer. Aquiculture surveys provide information on trout and catfish inventory, acreage and sales as well as catfish processed.

Need and Use of the Information: The survey results are useful in analyzing changing trends in the number of commercial operations and production levels by State. The information collected is used to demonstrate the growing importance of aquaculture to officials of Federal and State government agencies who manage and direct policy over programs in agriculture and natural resources. The type of information collected and reported provides extension educators and research scientists with data that indicates important areas that require special educational and/or research efforts, such as causes for loss of fish and pond inventories of fish of various sizes. The data gathered from the various reports provide information to establish contract levels for fishing programs and to evaluate prospective loans to growers and processors.

This is a request for the three-year renewal of this information collection. In addition to the national Catfish and Trout Production Surveys, NASS is requesting approval to conduct three state-specific aquaculture surveys to be conducted under reimbursable agreements in Florida, Hawaii, and Pennsylvania. Also, NASS will discontinue the Catfish Feed Deliveries Report and the Catfish Processing Report.

Description of Respondents: Farms; Business or other for-profit.

Number of Respondents: 3,655.

Frequency of Responses: Reporting: Monthly; Semi-annually; Annually.

Total Burden Hours: 1,030.

National Agricultural Statistics Service

Title: Confidentiality Pledge Revision.

OMB Control Number: 0535-0260.

Summary of Collection: The revision to the confidentiality pledge made by NASS to all respondents on all data collection efforts under CIPSEA and Title 7, Chapter 55, Sec, 2276, was changed to incorporate provisions that became law as a part of the Consolidated Appropriations Act for Fiscal Year 2016. Congress included the Federal Cybersecurity Enhancement Act of 2015 (H.R. 2029, Division N, Title II, Subtitle B, Sec.223). This Act permits and requires the Secretary of Homeland Security to provide federal civilian agencies' information technology systems with cybersecurity protection for their Internet traffic. The technology currently used is “Einstein 3A” and it searches Internet traffic in and out of federal civilian agencies in real time for malware signatures.

Need and Use of the Information: CIPSEA; Title 7, Chapter 55, Section 2276; and similar confidentiality pledges promise that respondents' data will be seen only by statistical agency personnel or their sworn agents. With the passage of the Federal Cybersecurity Enhancement Act of 2015, it is possible that Department of Homeland Security personnel could see some portion of those confidential data in the course of examining the suspicious Internet packets identified by the Einstein 3A technology. NASS needs to revise their confidentiality pledge to reflect this process change. Without this change the availability of NASS data could be significantly impacted.

Description of Respondents: Business or other for-profit; Individuals or households.

Number of Respondents: 1.

Frequency of Responses: Reporting: Annually.

Total Burden Hours: 1.

Charlene Parker,
Departmental Information Collection Clearance Officer.

[FR Doc. 2017-04159 Filed 3-2-17; 8:45 am]

BILLING CODE 3410-20-P